DEPARTMENT OF THE TREASURY

Open Meeting of the Advisory Committee on the Auditing Profession

AGENCY: Office of the Undersecretary for Domestic Finance, Treasury.

ACTION: Notice of meeting.

SUMMARY: The Department of the Treasury's Advisory Committee on the Auditing Profession will convene a telephone conference meeting on Tuesday, April 1, 2008, beginning at 1 p.m. Eastern Time. Members of the public may take part in the meeting by listening to the webcast accessible on the Department's Web site at http://www.treas.gov/offices/domestic-finance/acap/index.shtml or by calling telephone number (866) 341-2255 and using access code number 655660. Persons needing special accommodations to take part because of a disability should notify the contact person listed below.

DATES: The meeting will be held on Tuesday, April 1, 2008, at 1 p.m. Eastern Time.

ADDRESSES: The public is invited to submit written statements with the Advisory Committee by any of the following methods:

Electronic Statements

• Use the Department's Internet submission form (http://www.treas.gov/offices/domestic-finance/acap/comments); or

Paper Statements

• Send paper statements in triplicate to Advisory Committee on the Auditing Profession, Office of Financial Institutions Policy, Room 1418, Department of the Treasury, 1500 Pennsylvania Avenue, NW., Washington, DC 20220.

In general, the Department will post all statements on its Web site (http://www.treas.gov/offices/domestic-finance/acap/comments) without change, including any business or personal information provided such as names, addresses, e-mail addresses, or telephone numbers. The Department will also make such statements available for public inspection and copying in the Department's Library, Room 1428, Main Department Building, 1500 Pennsylvania Avenue, NW., Washington, DC 20220, on official business days between the hours of 10 a.m. and 5 p.m. Eastern Time. You can make an appointment to inspect statements by telephoning (202) 622-0990. All statements, including attachments and other supporting materials, received are part of the public record and subject to public disclosure. You should submit only information that you wish to make available publicly.

FOR FURTHER INFORMATION CONTACT: Kristen E. Jaconi, Senior Policy Advisor to the Under Secretary for Domestic Finance, Department of the Treasury, Main Department Building, 1500 Pennsylvania Avenue, NW., Washington, DC 20220, at (202) 927-6618.

SUPPLEMENTARY INFORMATION: In accordance with section 10(a) of the Federal Advisory Committee Act, 5 U.S.C. App. 2 and the regulations thereunder, David G. Nason, Designated Federal Officer of the Advisory Committee, has ordered publication of this notice that the Advisory Committee will convene a telephone conference meeting on Tuesday, April 1, 2008, beginning at 1 p.m. Eastern Time. Members of the public may take part in the meeting by listening to the webcast accessible on the Department's Web site at http://www.treas.gov/offices/domestic-finance/acap/index.shtml or by calling telephone number (866) 341-2255 and using access code number 655660. The agenda for this meeting is to consider Subcommittee recommendations on how to enhance the sustainability of the auditing profession and to decide whether to use the Subcommittee recommendations as the basis for a report, which will be considered at a future meeting of the Advisory Committee and which will be published for public comment.

Dated: March 6, 2008.
Taiya Smith,
Executive Secretary.

[FR Doc. E8-4794 Filed 3-10-08; 8:45 am]

BILLING CODE 4811-42-P